DEPARTMENT OF ENERGY

Federal Energy Regulatory Commission

[Docket No. CP07-207-000]

Colorado Interstate Gas Company; Notice of Availability of the Final Environmental Impact Statement for the Proposed High Plains Expansion Project

December 28, 2007.

The staff of the Federal Energy Regulatory Commission (FERC or Commission) has prepared this Final Environmental Impact Statement (EIS) for the natural gas pipeline facilities proposed by Colorado Interstate Gas Company (CIG) under the above-referenced docket. CIG's High Plains Expansion Project (Project) would be located in Weld, Morgan, and Adams Counties, Colorado.

The Final EIS was prepared to satisfy the requirements of the National Environmental Policy Act. The FERC staff concludes that the proposed Project, with the appropriate mitigation measures as recommended, would have limited adverse environmental impact.

The purpose of the Project is to expand CIG's existing pipeline system along Colorado's Front Range in order to provide additional transportation services to this rapidly growing market. CIG is proposing to construct about 163.7 miles of 24-inch and 30-inch-diameter pipeline in four separate pipeline segments and associated ancillary facilities.

The Final EIS addresses the potential environmental impacts resulting from the construction and operation of the following facilities:

• Line 250A: 64.5 miles of 30-inch-diameter pipeline and 20.3 miles of 24-inch-diameter pipeline that would extend from CIG's existing Cheyenne Compressor Station to an interconnect point on the proposed Line 251A in northeast Adams County;

• Line 251A: 57.9 miles of 24-inch-diameter pipeline between CIG's existing Watkins and Fort Morgan Compressor Stations;

• Line 252A: 14.9 miles of 30-inch-diameter pipeline extending westward from a point on the proposed Line 250A about one mile north of the existing Hudson Power Plant in the Town of Hudson, Colorado, to a new interconnect with Public Service Company of Colorado's existing Tri-Town facilities in Weld County, Colorado;

• Line 253A: 6.1 miles of 24-inch-diameter pipeline extending westward from the Watkins Compressor Station to CIG's existing East Denver measurement facility in Adams County, Colorado;

• Ten new meter stations and 19 new block valves; and

• Twelve pig launcher/receivers.

The entire project would be capable of transporting about 899,000 decatherms of gas per day. CIG proposes to begin construction in January 2008. It would put each pipeline segment into service as it is completed, and the entire Project would be in service by October 2008.

The Final EIS has been placed in the public files of the FERC and is available for public inspection at: Federal Energy Regulatory Commission, Public Reference Room, 888 First Street NE., Room 2A, Washington, DC 20426, (202) 502-8371.

A limited number of copies of the Final EIS are available from the Public Reference Room identified above. In addition, CD copies of the Final EIS have been mailed to affected landowners; various federal, state, and local government agencies; elected officials; environmental and public interest groups; Native American tribes; local libraries and newspapers; intervenors; and other individuals that expressed an interest in the proposed Project. Hard-copies of the Final EIS have also been mailed to those who requested that format during the scoping and comment periods for the proposed Project.

Additional information about the proposed Project is available from the Commission's Office of External Affairs, at 1-866-208-FERC or on the FERC Internet Web site (http://www.ferc.gov).

To access information via the FERC Web site click on the “eLibrary” link then click on “General Search” and enter the docket number excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E8-68 Filed 1-7-08; 8:45 am]

BILLING CODE 6717-01-P